DEPARTMENT OF VETERANS AFFAIRS

[OMB Control No. 2900-0913]

Agency Information Collection Activity Under OMB Review: Veteran Toxic Exposure Screening Tool (PACT Act)

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0913.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0913” in any correspondence.

SUPPLEMENTARY INFORMATION:

Authority: 44 U.S.C. 3501-3521.

Title: Veteran Toxic Exposure Screening Tool (PACT Act), VA Form 10-327.

OMB Control Number: 2900-0913.

Type of Review: Extension of a currently approved collection.

Abstract: The Honoring our PACT Act of 2022 (Pub. L. 117-168) required VA to incorporate a screening for all Veterans enrolled in VA healthcare to help determine potential toxic exposures during active military, naval, air, or space service as part of a health care screening. The statute required VA to begin screening all Veterans enrolled in VHA health care no later than 90 days after enactment of the PACT Act, which was November 8, 2022, and every five years thereafter. Pursuant to a six-month emergency PRA clearance from OMB, and to ensure efficacy of the screening tool and ease of use by screeners, the project team performed a pilot test of the toxic exposure screening tool with a sampling from seven targeted clinical areas and sites for 10 days, beginning September 6, 2022. The goal was to collect feedback and best practices to use in refining the screening tool and training to increase best chance for success. VHA now seeks to renew the PRA clearance for the screening tool for a full three years.

Information collected during the toxic exposure screening, using VA Form 10-327, will be included in the Veteran's electronic health record and will be used to connect Veterans with resources, services, and benefits available, as well as provide guidance that Veterans be engaged in ongoing care or establish care in VA or the community to address their exposure concerns. VA will be gathering this information as part of the Veterans' healthcare plan. Currently, the collection is accomplished through a clinical reminder or recommendation in the Veteran health record. VA staff can complete the clinical reminder through in-person interviews, during appointments, or using telehealth capabilities. VA is also exploring ways to reach Veterans through technology to obtain screening information. However, VA must ensure that toxic exposure screening responses and results are visible in the Veterans' health record. Veterans have the option of declining the toxic exposure screening.

An agency may not conduct or sponsor, and a person is not required to respond to a collection of information unless it displays a currently valid OMB control number. The Federal Register Notice with a 60-day comment period soliciting comments on this collection of information was published at 87 FR 226 on November 25, 2022, pages 72594 and 72595.

Affected Public: Individuals or Households.

Estimated Annual Burden: 138,333 hours.

Estimated Average Burden per Respondent: 5 minutes.

Frequency of Response: One time.

Estimated Number of Respondents: 1,660,000.

By direction of the Secretary.
Dorothy Glasgow,
VA PRA Clearance Officer (Alt.), Office of Enterprise and Integration, Data Governance Analytics, Department of Veterans Affairs.

[FR Doc. 2023-01876 Filed 1-30-23; 8:45 am]

BILLING CODE 8320-01-P